DEPARTMENT OF THE INTERIOR

Bureau of Indian Affairs

[201A2100DD/AAKC001030/A0A501010.999900]

Suspension of Preparation of Environmental Impact Statement for the Proposed Redding Rancheria Fee-to-Trust and Casino Project, Shasta County, California

AGENCY: Bureau of Indian Affairs, Interior.

ACTION: Notice.

SUMMARY: This notice announces that the Bureau of Indian Affairs (BIA) is suspending preparation of an environmental impact statement (EIS) for the Redding Rancheria's (Tribe's) application requesting that the United States acquire land in trust in Shasta County, California, for the construction and operation of a casino resort.

FOR FURTHER INFORMATION CONTACT: Mr. Chad Broussard, Environmental Protection Specialist, Bureau of Indian Affairs, Pacific Regional Office, 2800 Cottage Way, Room W-2820, Sacramento, California 95825; telephone: (916) 978-6165; email: chad.broussard@bia.gov. Information is also available online at www.reddingeis.com.

SUPPLEMENTARY INFORMATION: On November 29, 2016, the BIA published a Notice of Intent to Prepare an EIS in connection with the Tribe's application requesting that the United States acquire approximately 232 acres of land in trust in Shasta County, California, for the construction and operation of a casino resort. The proposed fee-to-trust property is located in an unincorporated part of Shasta County, California, approximately 1.6 miles northeast of the existing Redding Rancheria, and approximately two miles southeast from the downtown of the City of Redding. The proposed trust property includes seven parcels, bound by Bechelli Lane on the north, private properties to the south, the Sacramento River on the west, and Interstate 5 on the east. The Tribe is proposing to construct a casino resort that includes a casino, hotel, event/convention center, outdoor amphitheater, retail center, and associated parking/infrastructure. The new facility would replace the Tribe's existing casino, and the Tribe would convert the existing casino buildings to a different Tribal use.

On April 10, 2019, the BIA published a Notice of Availability in the Federal Register (84 FR 14391) for the Draft EIS for the Proposed Redding Rancheria Fee-to-Trust and Casino Project, Shasta County, California. On June 6, 2019, the BIA published a notice in the Federal Register (84 FR 26440) to extend the comment period for the Draft EIS to June 17, 2019.

By letter dated February 21, 2020, the Tribe notified the Department of the Interior (Department) that it would await a decision from the California Supreme Court in a case arising under State law and involving the Indian Gaming Regulatory Act, 25 U.S.C. 2719 et. seq., before the Tribe decided how to proceed on its application. Therefore, the Department is suspending its review of the Tribe's application and preparation of the EIS. Since the Tribe's request involves action by the California Supreme Court, the Department does not have a definite time frame for how long the suspension will last; however, the Department will provide notice when it resumes the environmental review process.

Tara Sweeney,
Assistant Secretary—Indian Affairs.

[FR Doc. 2020-10352 Filed 5-13-20; 8:45 am]

BILLING CODE 4337-15-P